DEPARTMENT OF ENERGY

Federal Energy Regulatory Commission

[Project No. 13833-000]

Northern Wasco People's Utility District; Notice of Preliminary Permit Application Accepted For Filing and Soliciting Comments, Motions To Intervene, and Competing Applications

September 22, 2010.

On August 23, 2010, Northern Wasco People's Utility District (Northern Wasco PUD) filed an application for a preliminary permit, pursuant to section 4(f) of the Federal Power Act (FPA), proposing to study the feasibility of the White River Falls Hydroelectric project near Maupin, Wasco County, Oregon. The sole purpose of a preliminary permit, if issued, is to grant the permit holder priority to file a license application during the permit term. A preliminary permit does not authorize the permit holder to perform any land-disturbing activities or otherwise enter upon lands or waters owned by others without the owners' express permission.

The proposed project calls for redevelopment of a hydroelectric project constructed in 1902 and decommissioned in 1963. Northern Wasco PUD proposes to reconstruct, replace, and repair some existing features, as well as build new features at the site.

The proposed project will consist of the following: (1) New head works; (2) anchors placed throughout the existing weir; (3) a new 600-foot-long, 6-foot-diameter penstock to be constructed at the site of the old structure; (4) a new powerhouse with two turbine/generator units with an installed capacity of 3.4 to 4.0-megawatts; (5) a 4.15-kilovolt, 1,800-foot-long, underground transmission line connecting to an existing substation; and (6) appurtenant facilities. The estimated annual generation of the White River Falls project is 16,000 megawatt-hours.

Applicant Contact: Bob Guidinger, Hydro Dept Manager, Northern Wasco PUD, 2345 River Road, The Dalles, OR 97058; phone: (541) 298-3325.

FERC Contact: Patrick Murphy (202) 502-8755.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13833-000) in the docket number field to access the document. For assistance, contact FERC Online Support.

Kimberly D. Bose,
Secretary.

[FR Doc. 2010-24513 Filed 9-29-10; 8:45 am]

BILLING CODE 6717-01-P